DEPARTMENT OF ENERGY

Federal Energy Regulatory Commission

Combined Notice of Filings #1

Take notice that the Commission received the following electric rate filings:

Docket Numbers: ER13-738-008; ER11-3097-012; ER10-1186-011; ER12-421-004; ER11-2731-004; ER10-1329-011.

Applicants: DTE Electric Company; DTE Energy Trading, Inc.; DTE Energy Supply, Inc.; DTE Garden Wind Farm, LLC; DTE Stoney Corners Wind Farm, LLC; St. Paul Cogeneration, LLC.

Description: Response to October 7, 2021 Deficiency Letter of DTE MBR Entities.

Filed Date: 11/5/21.

Accession Number: 20211105-5214.

Comment Date: 5 p.m. ET 11/26/21.

Docket Numbers: ER16-1275-003; ER16-2071-002; ER17-2342-003; ER17-2343-003; ER18-348-003; ER21-2532-001; ER21-2533-001.

Applicants: Bay Tree Lessee, LLC; Bay Tree Solar, LLC; Innovative Solar 43, LLC; Innovative Solar 46, LLC; Shoe Creek Solar, LLC.

Description: Notice of Change in Status of Innovative Solar 46, LLC, et al.

Filed Date: 11/8/21.

Accession Number: 20211108-5244.

Comment Date: 5 p.m. ET 11/29/21.

Docket Numbers: ER20-686-005.

Applicants: Tri-State Generation and Transmission Association, Inc.

Description: Compliance filing: Compliance Filing to be effective 10/1/2021.

Filed Date: 11/9/21.

Accession Number: 20211109-5171.

Comment Date: 5 p.m. ET 11/30/21.

Docket Numbers: ER21-2942-000.

Applicants: EnerSmart El Cajon BESS LLC.

Description: Report Filing: Supplement to Market-Based Rate Application to be effective N/A.

Filed Date: 11/8/21.

Accession Number: 20211108-5171.

Comment Date: 5 p.m. ET 11/22/21.

Docket Numbers: ER22-86-000.

Applicants: EnerSmart Chula Vista BESS LLC.

Description: Report Filing: Supplement to Market-Based Rate Application to be effective N/A.

Filed Date: 11/8/21.

Accession Number: 20211108-5176.

Comment Date: 5 p.m. ET 11/22/21.

Docket Numbers: ER22-359-000.

Applicants: Brookfield Renewable Trading and Marketing, LP.

Description: Brookfield Renewable Trading and Marketing, LP submits Petition for Limited Prospective Waiver and Request for Shortened Comment Period and Expedited Consideration.

Filed Date: 11/5/21.

Accession Number: 20211105-5219.

Comment Date: 5 p.m. ET 11/26/21.

Docket Numbers: ER22-362-000.

Applicants: Southwest Power Pool, Inc.

Description: § 205(d) Rate Filing: 2827R7 KPP and Evergy Kansas Central Meter Agent Agreement to be effective 11/1/2021.

Filed Date: 11/9/21.

Accession Number: 20211109-5028.

Comment Date: 5 p.m. ET 11/30/21.

Docket Numbers: ER22-363-000.

Applicants: American Electric Power Service Corporation, Appalachian Power Company, PJM Interconnection, L.L.C.

Description: § 205(d) Rate Filing: American Electric Power Service Corporation submits tariff filing per 35.13(a)(2)(iii: AEP submits one FA with City of Danville re: SA No. 2104 to be effective 1/9/2022.

Filed Date: 11/9/21.

Accession Number: 20211109-5095.

Comment Date: 5 p.m. ET 11/30/21.

Docket Numbers: ER22-364-000.

Applicants: Southern California Edison Company.

Description: Tariff Amendment: Cancel GIA DSA Tajiguas WDT222 SA No 168 169 to be effective 1/9/2022.

Filed Date: 11/9/21.

Accession Number: 20211109-5110.

Comment Date: 5 p.m. ET 11/30/21.

Docket Numbers: ER22-365-000.

Applicants: Georgia Power Company.

Description: § 205(d) Rate Filing: GPCo 2021 PBOP Filing to be effective 1/1/2021.

Filed Date: 11/9/21.

Accession Number: 20211109-5123.

Comment Date: 5 p.m. ET 11/30/21.

Docket Numbers: ER22-366-000.

Applicants: Mississippi Power Company.

Description: § 205(d) Rate Filing: PBOP 2021 Filing to be effective 1/1/2021.

Filed Date: 11/9/21.

Accession Number: 20211109-5124.

Comment Date: 5 p.m. ET 11/30/21.

Docket Numbers: ER22-367-000.

Applicants: Southern Electric Generating Company.

Description: § 205(d) Rate Filing: SEGCo 2021 PBOP Filing to be effective 1/1/2021.

Filed Date: 11/9/21.

Accession Number: 20211109-5125.

Comment Date: 5 p.m. ET 11/30/21.

Docket Numbers: ER22-368-000.

Applicants: Alabama Power Company.

Description: Initial rate filing: Chipola River Affected System Upgrade Agreement Filing to be effective 10/18/2021.

Filed Date: 11/9/21

Accession Number: 20211109-5154

Comment Date: 5 p.m. ET 11/30/21.

Docket Numbers: ER22-369-000.

Applicants: Georgia Power Company.

Description: Initial rate filing: Chipola River Affected System Upgrade Agreement Filing to be effective 10/18/2021.

Filed Date: 11/9/21.

Accession Number: 20211109-5155.

Comment Date: 5 p.m. ET 11/30/21.

Docket Numbers: ER22-370-000.

Applicants: Mississippi Power Company.

Description: Initial rate filing: Chipola River Affected System Upgrade Agreement Filing to be effective 10/18/2021.

Filed Date: 11/9/21.

Accession Number: 20211109-5156.

Comment Date: 5 p.m. ET 11/30/21.

Docket Numbers: ER22-371-000.

Applicants: Alabama Power Company.

Description: Initial rate filing: Slavic Solar Affected System Upgrade Agreement Filing to be effective 10/18/2021.

Filed Date: 11/9/21.

Accession Number: 20211109-5157.

Comment Date: 5 p.m. ET 11/30/21.

Docket Numbers: ER22-372-000.

Applicants: Georgia Power Company.

Description: Initial rate filing: Slavic Solar Affected System Upgrade Agreement Filing to be effective 10/18/2021.

Filed Date: 11/9/21.

Accession Number: 20211109-5159.

Comment Date: 5 p.m. ET 11/30/21.

Docket Numbers: ER22-373-000.

Applicants: Mississippi Power Company.

Description: Initial rate filing: Slavic Solar Affected System Upgrade Agreement Filing to be effective 10/18/2021.

Filed Date: 11/9/21.

Accession Number: 20211109-5160.

Comment Date: 5 p.m. ET 11/30/21.

Docket Numbers: ER22-374-000.

Applicants: Basin Electric Power Cooperative.

Description: § 205(d) Rate Filing: Basin Electric Submission of Certificates of Concurrence to be effective 11/9/2021.

Filed Date: 11/9/21.

Accession Number: 20211109-5176.

Comment Date: 5 p.m. ET 11/30/21.

Docket Numbers: ER22-375-000.

Applicants: Northern States Power Company, a Minnesota corporation.

Description: § 205(d) Rate Filing: 2021-11-09 Huntley-Wilmarth-OMA-658-0.0.0 to be effective 11/10/2021.

Filed Date: 11/9/21.

Accession Number: 20211109-5178.

Comment Date: 5 p.m. ET 11/30/21.

Docket Numbers: ER22-376-000.

Applicants: Tri-State Generation and Transmission Association, Inc.

Description: § 205(d) Rate Filing: Initial Filing of Rate Schedule No. 896 to be effective 11/3/2021.

Filed Date: 11/9/21.

Accession Number: 20211109-5181.

Comment Date: 5 p.m. ET 11/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 9, 2021.
Debbie-Anne A. Reese,
Deputy Secretary.

[FR Doc. 2021-24987 Filed 11-15-21; 8:45 am]

BILLING CODE 6717-01-P